DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On November 18, 2022, OFAC determined that the property and interests in property subject to U.S. jurisdiction of the following persons are blocked under the relevant sanctions authority listed below.

Individuals

1. KUDRYAKOV, Dmitry; DOB 11 Dec 1964; POB Irkutsk, Russia; nationality Russia; Gender Male; Passport 531079231 (Russia) expires 24 Mar 2026; NIT # 79478034 (Guatemala); C.U.I. 3749997750101 (Guatemala) (individual) [GLOMAG].

Designated pursuant to section 1(a)(iii)(A)(1) of Executive Order 13818 of December 20, 2017, “Blocking the Property of Persons Involved in Serious Human Rights Abuse or Corruption,” 82 FR 60839, 3 CFR, 2018 Comp., p. 399, (E.O. 13818) for having materially assisted, sponsored, or provided financial, material, or technological support for, or goods or services to or in support of, corruption, including the misappropriation of state assets, the expropriation of private assets for personal gain, corruption related to government contracts or the extraction of natural resources, or bribery that is conducted by a foreign person.

2. LITVINIUK, Iryna (a.k.a. LITVINIUK, Hennadzievna; a.k.a. LITVINIUK, Irina Gennadievna), Mihaila Ptashuka 11-72, Minsk, Belarus; DOB 19 Nov 1990; POB Kobrin, Belarus; nationality Belarus; Gender Female; Passport MP4622471 (Belarus) expires 05 Jul 2031; alt. Passport MP3974861 (Belarus) expires 18 Apr 2027; alt. Passport AB2727384 (Belarus) expires 09 Jul 2023; National ID No. 4191190C002PB3 (Belarus) (individual) [GLOMAG].

Designated pursuant to section 1(a)(iii)(A)(1) of E.O. 13818 for having materially assisted, sponsored, or provided financial, material, or technological support for, or goods or services to or in support of, corruption, including the misappropriation of state assets, the expropriation of private assets for personal gain, corruption related to government contracts or the extraction of natural resources, or bribery that is conducted by a foreign person.

Entities

1. COMPANIA GUATEMALTECA DE NIQUEL, SOCIEDAD ANONIMA (a.k.a. “CGN”; a.k.a. COMPANIA GUATEMALTECA DE NIQUEL; a.k.a. GUATEMALAN NICKEL COMPANY), 9-55 Avenida Reforma Z.10, Guatemala City, Guatemala; Organization Established Date 22 Jun 1960; NIT # 335886 (Guatemala) [GLOMAG].

Designated pursuant to section 1(a)(iii)(B) of E.O. 13818 for being owned or controlled by, or for having acted or purported to act for or on behalf of, directly or indirectly, KUDRYAKOV, Dmitry, a person whose property and interests in property are blocked pursuant to this order.

2. COMPANIA PROCESADORA DE NIQUEL DE IZABAL, S.A. (a.k.a. COMPANIA PROCESADORA DE NIQUEL; a.k.a. COMPANIA PROCESADORA DE NIQUEL DE IZABAL, SOCIEDAD ANONIMA; a.k.a. “PRONICO”), 9-55 Avenida Reforma Z.10, Guatemala City, Guatemala; Organization Established Date 03 Sep 2013; NIT # 83557008 (Guatemala) [GLOMAG].

Designated pursuant to section 1(a)(iii)(B) of E.O. 13818 for being owned or controlled by, or for having acted or purported to act for or on behalf of, directly or indirectly, KUDRYAKOV, Dmitry, a person whose property and interests in property are blocked pursuant to this order.

3. MAYANIQUEL, SOCIEDAD ANONIMA, 12 Calle 2-25 Z.10, Guatemala City, Guatemala; Organization Established Date 03 Oct 1996; NIT # 8252149 (Guatemala) [GLOMAG].

Designated pursuant to section 1(a)(iii)(B) of E.O. 13818 for being owned or controlled by, or for having acted or purported to act for or on behalf of, directly or indirectly, KUDRYAKOV, Dmitry, a person whose property and interests in property are blocked pursuant to this order.

Dated: November 18, 2022.
Andrea Gacki,
Director, Office of Foreign Assets Control, U.S. Department of the Treasury.

[FR Doc. 2022-25791 Filed 11-25-22; 8:45 am]

BILLING CODE 4810-AL-P